DEPARTMENT OF STATE

[Public Notice 10098]

Proposal To Extend Cultural Property Agreement between the United States and Cambodia

AGENCY: Department of State.

ACTION: Notice.

SUMMARY: Proposal of an extension of the Memorandum of Understanding Between the Government of the United States of America and the Government of the Kingdom of Cambodia Concerning the Imposition of Import Restrictions on Archaeological Material from Cambodia from the Bronze Age through the Khmer Era.

FOR FURTHER INFORMATION CONTACT: Catherine Foster, Cultural Heritage Center, Bureau of Educational and Cultural Affairs: 202-632-6301; CulProp@state.gov.

SUPPLEMENTARY INFORMATION: Pursuant to 19 U.S.C. 2602(f)(1), the Department proposes an extension of the Memorandum of Understanding with the Government of the Kingdom of Cambodia. A copy of the Memorandum of Understanding, the Designated List of categories of material restricted from import into the United States, and related information can be found at the Cultural Heritage Center Web site: http://culturalheritage.state.gov.

D. Bruce Wharton,
Acting Under Secretary for Public Diplomacy and Public Affairs, Department of State.

[FR Doc. 2017-18280 Filed 8-28-17; 8:45 am]

BILLING CODE 4710-05-P